DEPARTMENT OF COMMERCE

National Oceanic and Atmospheric Administration

[I.D. 072105B]

Endangered Species; File No. 1542

AGENCY: National Marine Fisheries Service (NMFS), National Oceanic and Atmospheric Administration (NOAA), Commerce.

ACTION: Notice; application for permit.

SUMMARY: Notice is hereby given that SCANA Services, Inc. (Stephen E. Summer, Principal Investigator), 6248 Bush River Road, Columbia, SC 29212, has applied in due form for a permit to take shortnose sturgeon (Acipenser brevirostrum) for purposes of scientific research.

DATES: Written, telefaxed, or e-mail comments must be received on or before September 14, 2005.

ADDRESSES: The application and related documents are available for review upon written request or by appointment in the following offices:

Permits, Conservation and Education Division, Office of Protected Resources, NMFS, 1315 East-West Highway, Room 13705, Silver Spring, MD 20910; phone (301) 713-2289; fax (301) 427-2521; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1542.

FOR FURTHER INFORMATION CONTACT: Shane Guan or Carrie Hubard, (301) 713-2289.

SUPPLEMENTARY INFORMATION: The subject permits are requested under the authority of the Endangered Species Act of 1973, as amended (ESA; 16 U.S.C. 1531 et seq.) and the regulations governing the taking, importing, and exporting of endangered and threatened species (50 CFR 222-226).

SCANA Services, Inc., sister company to South Carolina Electric & Gas Company (SCE&G), proposes to conduct a study of shortnose sturgeon in portions of the Santee River Basin in South Carolina (Saluda, Congaree, Broad, Wateree, and Santee Rivers) in support of SCE&G's efforts to acquire a new operating license from the Federal Energy Regulatory Commission (FERC) for the Saluda Hydroelectric Project (FERC No. 516). The purpose of the proposed study is to document shortnose sturgeon usage in areas downstream of the Saluda Hydroelectric Project which are within the historic range of the species, but have not been adequately sampled in recent history. A maximum of 15 adult and juvenile shortnose sturgeon would be captured with gill nets, examined, measured, weighed, PIT and dart tagged, a tissue sample collected for genetic analysis, and released annually. An estimated 100 shortnose sturgeon eggs and larvae would be lethally taken by using D-shaped or rectangular drift nets annually as part of the proposed study to determine if spawning is taking place. The permit is requested for a duration of 5 years, with work slated to begin in January 2006.

Dated: August 4, 2005.
Stephen L. Leathery,
Chief, Permits, Conservation and Education Division, Office of Protected Resources, National Marine Fisheries Service.

[FR Doc. 05-16061 Filed 8-12-05; 8:45 am]

BILLING CODE 3510-22-S